Title 3—

The President

Proclamation 10782 of July 10, 2024

Adjusting Imports of Aluminum Into the United States

By the President of the United States of America

A Proclamation

1. On January 19, 2018, the Secretary of Commerce (Secretary) transmitted to the President a report on the Secretary's investigation into the effect of imports of aluminum articles on the national security of the United States under section 232 of the Trade Expansion Act of 1962, as amended (19 U.S.C. 1862). The Secretary found and advised the President of the Secretary's opinion that aluminum articles are being imported into the United States in such quantities and under such circumstances as to threaten to impair the national security of the United States.

2. In Proclamation 9704 of March 8, 2018 (Adjusting Imports of Aluminum Into the United States), the President concurred in the Secretary's finding that aluminum articles are being imported into the United States in such quantities and under such circumstances as to threaten to impair the national security of the United States, and decided to adjust the imports of aluminum articles by imposing a 10 percent ad valorem tariff on such articles imported from all countries except Canada and Mexico. Proclamation 9704 further stated that any country with which the United States has a security relationship is welcome to discuss alternative ways to address the threatened impairment of the national security caused by imports from that country, and noted that, should the United States and any such country arrive at a satisfactory alternative means to address the threat to the national security such that the President determines that imports from that country no longer threaten to impair the national security, the President may remove or modify the restriction on aluminum articles imports from that country and, if necessary, adjust the tariff as it applies to other countries, as the national security interests of the United States require.

3. In Proclamation 9704, the President also directed the Secretary to monitor imports of aluminum articles and inform the President of any circumstances that in the Secretary's opinion might indicate the need for further action under section 232 of the Trade Expansion Act of 1962, as amended, with respect to such imports.

4. In Proclamation 9893 of May 19, 2019 (Adjusting Imports of Aluminum Into the United States), the President noted that the United States had successfully concluded discussions with Mexico on satisfactory alternative means to address the threatened impairment of the national security posed by aluminum imports from Mexico. The United States agreed on a range of measures with Mexico that were expected to allow imports of aluminum from Mexico to remain stable at historical levels without meaningful increases, thus permitting the domestic capacity utilization to remain reasonably commensurate with the target level recommended in the Secretary's report. In the President's judgment, these measures would provide effective, long-term alternative means to address the contribution of Mexico's imports to the threatened impairment of the national security.

5. The President determined in Proclamation 9893 that, under the framework in the agreement reached with Mexico, imports of aluminum from Mexico would no longer threaten to impair the national security and accordingly excluded Mexico from the tariff proclaimed in Proclamation 9704, as amended. The President noted that the United States would monitor the implementation and effectiveness of these measures in addressing our national security needs, and that the President may revisit this determination as appropriate.

6. In Proclamation 9980 of January 24, 2020 (Adjusting Imports of Derivative Aluminum Articles and Derivative Steel Articles Into the United States), the President noted that, among other things, imports of certain derivatives of aluminum articles had significantly increased since the imposition of tariffs and quotas on imports of aluminum articles in 2018. The President further noted the Secretary's assessment that foreign producers increased shipments of such derivative articles to the United States to circumvent the duties on aluminum articles imposed in Proclamation 9704 and that the net effect of the increase of imports of these derivatives had been to erode the customer base for United States producers of aluminum and undermine the purpose of Proclamation 9704.

7. Based on such assessments by the Secretary, the President concluded in Proclamation 9980 that it was necessary and appropriate in light of our national security interests to adjust the tariffs imposed by previous proclamations to apply to certain derivatives of aluminum articles from most countries, excluding Argentina, Australia, Canada, and Mexico. This action was necessary and appropriate to address circumvention that was undermining the effectiveness of the adjustment of imports made in Proclamation 9704, as amended, and to remove the threatened impairment of the national security of the United States found in that proclamation.

8. The Secretary has informed me that domestic aluminum producers' capacity utilization remains below the target 80 percent capacity utilization recommended in the Secretary's report of January 19, 2018, and imports of aluminum articles from Mexico have increased significantly as compared to their levels at the time of Proclamation 9893. Furthermore, Mexico lacks primary aluminum smelting capabilities, and the country of smelt or country of most recent cast is unknown for a significant volume of aluminum imports from Mexico. In the Secretary's opinion, these developments indicate the need for further action under section 232 of the Trade Expansion Act of 1962, as amended, with respect to such aluminum imports. In monitoring the implementation and effectiveness of the agreement with Mexico in addressing our national security needs, I have determined that it is appropriate to revisit the President's determination in Proclamation 9893 regarding the applicability of the tariff imposed in Proclamation 9704 to aluminum articles imports from Mexico.

9. Accordingly, the United States will implement a country of smelt and country of most recent cast requirement for imports of aluminum articles that are products of Mexico, and will increase the section 232 duty rate for imports of aluminum articles and derivative aluminum articles that are products of Mexico containing aluminum for which the reported primary country of smelt, secondary country of smelt, or country of most recent cast is China, Russia (subject to paragraph 10 of this proclamation), Belarus, or Iran. In order to be eligible for importation free from section 232 tariffs, aluminum articles and derivative aluminum articles that are products of Mexico must be accompanied by a certificate of analysis and must not contain primary aluminum for which the reported primary country of smelt, secondary country of smelt, or country of most recent cast is China, Russia (subject to paragraph 10 of this proclamation), Belarus, or Iran. In my judgment, these measures will provide an effective, long-term alternative means to address any contribution by Mexican aluminum articles imports to the threatened impairment of the national security by restraining aluminum articles imports to the United States from Mexico, limiting transshipment, and discouraging excess aluminum capacity and production. The United States will monitor the implementation and effectiveness of the measures agreed upon with Mexico in addressing our national security needs, and I may revisit this determination, as appropriate.

10. In Proclamation 10522 of February 24, 2023 (Adjusting Imports of Aluminum Into the United States), the President determined that it was necessary and appropriate to impose a 200 percent ad valorem tariff on aluminum articles where any amount of primary aluminum used in the manufacture of the aluminum articles is smelted in Russia, or the aluminum articles are cast in Russia, and derivative aluminum articles where any amount of primary aluminum used in the manufacture of the derivative aluminum articles is smelted in Russia, or the derivative aluminum articles are cast in Russia. Proclamation 10522 shall continue to apply to aluminum articles and derivative aluminum articles that are products of Mexico to the extent such articles contain any primary aluminum that is smelted or cast in Russia. If Proclamation 10522 is suspended, this proclamation shall apply with respect to aluminum articles and derivative aluminum articles that are the product of Mexico and contain primary aluminum for which the primary country of smelt, secondary country of smelt, or country of most recent cast, is Russia. While in effect, Proclamation 10522 supersedes this proclamation.

11. To prevent transshipment, excess production, or other actions that would lead to increased exports of aluminum articles to the United States, the United States Trade Representative, in consultation with the Secretary, shall advise me if there is a surge in imports of aluminum articles to the United States from Mexico and on the appropriate means to ensure that such imports from Mexico do not undermine the national security objectives of the tariff imposed in Proclamation 9704, as amended. If necessary and appropriate, I will consider directing the U.S. Customs and Border Protection (CBP) of the Department of Homeland Security to no longer exclude imports of aluminum articles from Mexico from the tariff imposed in Proclamation 9704, as amended.

12. In light of my determination to adjust the tariff proclaimed in Proclamation 9704, as amended, as applied to eligible aluminum articles imports from Mexico, I have considered whether it is necessary and appropriate in light of our national security interests to make any corresponding adjustments to such tariff as it applies to other countries. I have determined that it is necessary and appropriate, at this time, to maintain the current tariff level as it applies to other countries.

13. Section 232 of the Trade Expansion Act of 1962, as amended, authorizes the President to adjust the imports of an article and its derivatives that are being imported into the United States in such quantities or under such circumstances as to threaten to impair the national security.

14. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, JOSEPH R. BIDEN JR., President of the United States of America, by the authority vested in me by the Constitution and the laws of the United States of America, including section 232 of the Trade Expansion Act of 1962, as amended, section 301 of title 3, United States Code, and section 604 of the Trade Act of 1974, as amended, do hereby proclaim as follows:

(1) To establish a country of smelt and country of most recent cast requirement for imports of aluminum articles and derivative aluminum articles from Mexico, and an increase in the duty rate for imports of aluminum articles and derivative aluminum articles that are products of Mexico containing aluminum for which the reported primary country of smelt, secondary country of smelt, or country of most recent cast is China, Russia (subject to paragraph 10 of this proclamation), Belarus, or Iran, amendments to U.S. note 19 to subchapter III of chapter 99 and new HTSUS headings are provided for in the Annex to this proclamation. Imports of aluminum articles and derivative aluminum articles that are products of Mexico shall be exempt from the new duty provided that such aluminum products do not contain primary aluminum for which the reported primary country of smelt, secondary country of smelt, or country of most recent cast is China, Russia (subject to paragraph 10 of this proclamation), Belarus, or Iran.

(2) Aluminum articles eligible for treatment under clause 1 of this proclamation must be accompanied by a certificate of analysis in order to receive such treatment. Eligible aluminum articles must not contain primary aluminum for which the reported primary country of smelt, secondary country of smelt, and country of most recent cast is China, Russia (subject to paragraph 10 of this proclamation), Belarus, or Iran. “Primary country of smelt” is defined as the country where the largest volume of new aluminum metal is produced from alumina (or aluminum oxide) by the electrolytic Hall-Héroult process. “Secondary country of smelt” is the country where the second largest volume of new aluminum metal is produced from alumina (or aluminum oxide) by the electrolytic Hall-Héroult process. “Country of most recent cast” refers to the country where the aluminum (with or without alloying elements) was last liquified by heat and cast into a solid state. The final solid state can take the form of either a semi-finished product (slab, billets or ingots) or a finished aluminum product. The Secretary, in consultation with the Secretary of Homeland Security and the United States Trade Representative, is authorized to take such actions as are necessary to ensure compliance with this requirement. Failure to comply could result in applicable remedies or penalties under United States law.

(3) For purposes of implementing this and other proclamations, importers shall provide to CBP the information necessary to identify the countries where the primary aluminum used in the manufacture of aluminum articles imports covered by clause 1 of Proclamation 9704 are smelted and information necessary to identify the countries where such aluminum articles imports are cast. CBP shall implement the smelt and cast information requirements as soon as practicable.

(4) The modifications to the HTSUS made by clause 1 of this proclamation shall be effective with respect to goods entered for consumption, or withdrawn from warehouse for consumption, on or after 12:01 a.m. eastern daylight time on July 10, 2024, and shall continue in effect, unless such actions are expressly reduced, modified, or terminated.

(5) Any imports of aluminum articles that are products of Mexico and that were admitted into a U.S. foreign trade zone under “privileged foreign status” as defined in 19 CFR 146.41, prior to 12:01 a.m. eastern daylight time on July 10, 2024, shall be subject upon entry for consumption made on or after 12:01 a.m. eastern daylight time on July 10, 2024, to the provisions of Proclamation 9893, Proclamation 9980, and Proclamation 10522 (for imports containing aluminum smelt or cast in Russia).

(6) Any provision of previous proclamations and Executive Orders that is inconsistent with the actions taken in this proclamation is superseded to the extent of such inconsistency.

IN WITNESS WHEREOF, I have hereunto set my hand this tenth day of July, in the year of our Lord two thousand twenty-four, and of the Independence of the United States of America the two hundred and forty-eighth.

Billing code 3395-F4-P

[FR Doc. 2024-15632

Filed 7-12-24; 8:45 am]

Billing code 7020-02-C